DEPARTMENT OF DEFENSE

Department of the Army

Draft Programmatic Environmental Impact Statement (PEIS) for Army Transformation

AGENCY: Department of the Army, DoD.

ACTION: Notice of Availability (NOA).

SUMMARY: The Department of the Army announces the availability of the Draft PEIS for Army Transformation.

The PEIS details the environmental concerns which may affect various aspects of Army Transformation including, but not limited to: unit location; materiel acquisition and testing; training areas; range requirements; and strategic deployment.

DATES: The comment period for the Draft PEIS will end 45 days after publication of the NOA in the Federal Register by the U.S. Environmental Protection Agency.

ADDRESSES: To obtain a copy of the PEIS write to Headquarters, Department of the Army, Attn: DAMO-FMF (Mr. Jim Lucas), 400 Army Pentagon, Washington, DC 20310-0400.

FOR FURTHER INFORMATION CONTACT: Mr. Jim Lucas, Headquarters, Department of the Army, ATTN: ODCSOPS (DAMO-FMF), 400 Army Pentagon, Washington, DC 20310-0400 or at (703) 602-9794.

SUPPLEMENTARY INFORMATION: The prospect of a rapidly changing and more turbulent, unpredictable, global security environment underscores the need for a high level of U.S. defense preparedness. To meet the challenges of a wider range of threats and a more complex set of operating environments, the U.S. will require an Army capable of rapid response and dominance across the entire spectrum of operations in joint, interagency, and multinational configurations. Today's Army force structure and supporting systems were designed for a different era and enemy. They lack the capability to operate optimally across the full range of likely future operations. The Army's superb heavy forces are unequalled in their ability to gain and hold terrain in the most intense, direct fire combat imaginable; and, once deployed, are the decisive element in major theater wars. The current heavy forces, however, are challenged to get to contingencies where we have not laid the deployment groundwork; and once deployed, these forces have a large logistical footprint. On the other hand, the Army's current light forces can strike quickly but lack survivability; lethality and tactical mobility once inserted. Therefore, to meet the defense challenges of the future and provide the National Command Authority the decisive land power forces necessary to support the National Security Strategy and National Military Strategy, the Secretary of the Army and the Chief of Staff of the Army have articulated a clear Army Vision that includes transforming the most respected Army in the world into a strategically responsive force that is dominant across the full spectrum of operations.

The Army proposes to implement transformation as rapidly as possible, while continually maintaining the warfighting readiness of its operational forces, improving its installations and business practices, and taking care of its people. The proposed program of Army Transformation would be the mechanism used to integrate and synchronize the implementation of the Army Vision. To validate early transformation concepts, an Initial Force of two brigade combat teams at Fort Lewis, Washington, is receiving off-the-shelf equipment to support evaluation and refinement of new doctrinal organizational and operational concepts. An Interim Force of six to eight brigade combat teams will follow in the future. The Interim Force would be a transition force—one that seeks the Objective Force state of the art technology, but leverages today's technology together with modernized legacy forces as a bridge to the future. The Objective Force would be the force that achieves our transformation objective. It would be a future force that would be a strategically responsive Army capable of dominating at every point across the full spectrum of operations and rapidly transitioning across mission requirements without loss of momentum. It would be able to operate as an integral member of joint, multinational, interagency teams and would be dominant against the asymmetric application of conventional, unconventional, and weapons of mass destruction threat capabilities.

The PEIS complies with the National Environmental Policy Act (NEPA) of 1969. Implementation of the Army Transformation, as envisioned, will be a major undertaking entailing a series of changes in equipment, force structure and training practices. As changes are proposed for specific sites and for equipment acquisition and testing, there will likely be a range of adverse and beneficial effects on the environment. The PEIS informs the public, regulators, concerned groups and Army decision-makers about potential environmental concerns that should be factored into all aspects of Army Transition. Additionally, the PEIS provides all stakeholders with an opportunity to present their views to Army decision-makers.

Alternatives: (1) No Action Alternative—whereby Army Transformation would not be implemented and needed changes to Army equipment, force structure and training practices would be separately analyzed on a piecemeal basis; and (2) Action Alternative—whereby Army Transformation, as envisioned by Army decision-makers, would be implemented to better meet present and future national security requirements and fulfill the Army Vision.

Significant issues: The PEIS addresses issues including noise, impacts to wetlands and riparian areas, soil erosion, air and water quality, endangered species, and cultural resources.

Comments received as a result of the NOA will be used to assist the Army in identifying potential impacts to the quality of human and natural environments. Individuals or organizations may participate in this process by mailing written comments or by facsimile through the Army Homepage web site www.army.mil/a-z.htm, and scrolling to “Programmatic Environmental Impact Statement.”

Dated: October 10, 2001.
Raymond J. Fatz,
Deputy Assistant Secretary of the Army, (Environment, Safety and Occupational Health) OASA(I&E).

[FR Doc. 01-26309 Filed 10-17-01; 8:45 am]

BILLING CODE 3710-08-M